DEPARTMENT OF HEALTH AND HUMAN SERVICES

National Institutes of Health

National Institute on Drug Abuse; Amended Notice of Meeting

Notice is hereby given of a change in the meeting of the National Institute on Drug Abuse Special Emphasis Panel, October 15, 2013, 11:00 a.m. to October 15, 2013, 2:00 p.m., Hilton Garden Inn Washington DC/Bethesda, 7301 Waverly Street, Bethesda, MD 21045 which was published in the Federal Register on September 23, 2013, 78 184 FRN2013-22992.

The date, time and location of the meeting are changed to November 13, 2013, 9:00 a.m. to November 13, 2013, 10:15 a.m., Hyatt Regency Bethesda, One Bethesda Metro Center, 7400 Wisconsin Avenue, Bethesda, MD 20814. The meeting is closed to the public.

Dated: October 25, 2013.
Michelle Trout,
Program Analyst, Office of Federal Advisory Committee Policy.

[FR Doc. 2013-25747 Filed 10-29-13; 8:45 am]

BILLING CODE 4140-01-P